SOCIAL SECURITY ADMINISTRATION

[Docket No. SSA 2015-0016]

Privacy Act of 1974, as Amended; Computer Matching Program (SSA/Office of Child Support Enforcement (OCSE))—Match Number 1098

AGENCY: Social Security Administration (SSA).

ACTION: Notice of a new computer matching program that will be implemented with OCSE.

SUMMARY: In accordance with the provisions of the Privacy Act, as amended, this notice announces a new computer matching program that we are currently will conduct with OCSE.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, Social Security Administration, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Mary Ann Zimmerman,
Acting Executive Director, Office of Privacy and Disclosure, Office of the General Counsel.

Notice of Computer Matching Program, SSA With the Office of Child Support Enforcement (OCSE)

A. Participating Agencies

SSA and OCSE.

B. Purpose of the Matching Program

The purpose of this matching program is to govern a matching program between the OCSE and us. The agreement covers the Quarterly Wage and Unemployment Insurance batch match for Title II Disability Insurance (DI). This agreement also governs the use, treatment, and safeguarding of the information exchanged. OCSE is the “source agency” and we are the “recipient agency,” as defined by the Privacy Act. 5 U.S.C. 552a(a)(9) and (11).

We will use the quarterly wage and unemployment insurance information from OCSE to establish or verify eligibility, continuing entitlement, or payment amounts, or all of the above, of individuals under the DI program.

C. Authority for Conducting the Matching Program

The legal authority for disclosures under this agreement are: (1) 453(j)(4) of the Social Security Act (Act) which provides that OCSE shall provide our Commissioner with all information in the National Directory of New Hires (NDNH). 42 U.S.C. 653(j)(4); and (2) 224(h)(1) of the Act provides that the head of any Federal agency shall provide information within its possession as our Commissioner may require for purposes of making a timely determination of the amount of the reduction, if any, required by section 224 in benefits payable under Title II of the Act. 42 U.S.C. 424a(h). Disclosures under this agreement shall be made in accordance with 5 U.S.C. 552a(b)(3), and in compliance with the matching procedures in 5 U.S.C. 552a(o), (p), and (r).

D. Categories of Records and Persons Covered by the Matching Program

Systems of Records (SOR): We published notice of the relevant SORs in the Federal Register. Our SORs are the Master Beneficiary Record (MBR), SSA/ORSIS 60-0090 last published January 11, 2006 at 72 FR 1826; and the Completed Determination Record-Continuing Disability Determination file (CDR-CDD), SSA/OD 60-0050 last published January 11, 2006 at 72 FR 1813.

OCSE will match our information in the MBR and CDR-CDD against the quarterly wage and unemployment insurance information furnished by state and federal agencies maintained in its SOR “OCSE National Directory of New Hires” (NDNH), No. 09-80-0381, established by publication in the Federal Register on January 5, 2011 at 76 FR 560. Routine use (9) of the system of records authorizes disclosure of NDNH information to SSA, 76 FR 560, 562 (January 5, 2011).

Data Elements Used in the Matching Program: We will provide electronically to OCSE the following data elements in the finder file of DI beneficiaries: Individual's SSN and Name. OCSE will provide electronically to us the following data elements from the NDNH in the quarterly wage file: Quarterly wage record identifier, For employees: (1) Name (first, middle, last), (2) SSN, (3) Verification request code, (4) Processed date, (5) Non-verifiable indicator, (6) Wage amount, and (7) Reporting period; For employers of individuals in the quarterly wage file of the NDNH: (1) Name, (2) Employer identification number, and (3) Address(es); Transmitter agency code, Transmitter state code, and State or agency name. OCSE will provide electronically to us the following data elements from the NDNH in the unemployment insurance file: Unemployment insurance record identifier, Processed date, SSN, Verification request code, Name (first, middle, last), Address, Unemployment insurance benefit amount, Reporting period, Transmitter agency code, Transmitter state code, and State or agency name.

E. Inclusive Dates of the Matching Program

The effective date of this matching program is November 1, 2015; provided that the following notice periods have lapsed: 30 days after publication of this notice in the Federal Register and 40 days after notice of the matching program is sent to Congress and OMB. The matching program will continue for 18 months from the effective date and, if both agencies meet certain conditions, it may extend for an additional 12 months thereafter.

[FR Doc. 2015-29283 Filed 11-16-15; 8:45 am]

BILLING CODE 4191-02-P